DEPARTMENT OF HEALTH AND HUMAN SERVICES

National Institutes of Health

National Cancer Institute; Amended Notice of Meeting

Notice is hereby given of a change in the meeting of the National Cancer Institute Board of Scientific Advisors, November 5, 2012, 9:00 a.m. to November 5, 2012, 5:00 p.m., National Institutes of Health, Building 31, 31 Center Drive, Bethesda, MD, 20892 which was published in the Federal Register on September 27, 2012, 77FR59406.

This notice is amended to change the adjournment time to 3:45 p.m. The meeting is open to the public.

Dated: October 31, 2012.
Melanie J. Gray,
Program Analyst, Office of Federal Advisory Committee Policy.

[FR Doc. 2012-26987 Filed 11-5-12; 8:45 am]

BILLING CODE 4140-01-P